GENERAL SERVICES ADMINISTRATION

[OMB Control No. 3090-0324; Docket No. 2024-0001; Sequence No.14]

Submission for OMB Review; General Services Administration Acquisition Regulation; Foreign Ownership and Financing Representation for High-Security Leased Space

AGENCY: Office of Acquisition Policy, General Services Administration (GSA).

ACTION: Notice; request for comments.

SUMMARY: In accordance with the Paperwork Reduction Act of 1995, and the Office of Management and Budget (OMB) regulations, GSA invites the public to comment on an extension concerning disclosure of foreign ownership information under high-security lease space acquisitions.

DATES: Submit comments on or before January 13, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Amy Lara, 816-589-3783, General Services Acquisition Policy Division, by email at gsarpolicy@gsa.gov.

SUPPLEMENTARY INFORMATION:

A. Purpose

The purpose of this information collection supports the implementation of the Secure Federal LEASEs Act (Pub. L. 116-276) to reduce security risks in high-security leased space. Section 3 of the bill requires agencies, before entering into a lease agreement for high-security leased space, to require the contractor to identify the immediate or highest-level owner of the space, including any financing entity, and disclose whether that owner is a foreign person or entity, including the country associated with the ownership entity.

This information collection covers GSA's implementation of the Act through GSAR clause 552.270-33. As this information is still required, GSA seeks to have this information collection extended for three years.

B. Annual Reporting Burden

The annual reporting burden is estimated as follows:

1. Initial Disclosure

Baseline Representation

Estimated annual responses: 542.

Estimated hours per response: 2.

Additional Representation

Estimated annual responses: 54.

Estimated hours per response: 10.

Total Initial Response Burden Hours: 1,624.

2. Annual Updates

Estimated annual responses: 542.

Estimated hours per response: 0.50.

Total Update Response Burden Hours: 271.

C. Public Comments

A 60-day notice published in the Federal Register at 89 FR 78305 on September 25, 2024. No public comments were received.

Jeffrey A. Koses,
Senior Procurement Executive, Office of Acquisition Policy, Office of Government-wide Policy.

[FR Doc. 2024-29130 Filed 12-11-24; 8:45 am]

BILLING CODE 6820-61-P